DEPARTMENT OF ENERGY

Federal Energy Regulatory Commission

[Project No. 2496]

Eugene Water and Electric Board, Leaburg Walterville Project, Oregon; Notice

June 27, 2000.

The following Commission staff are assigned to help facilitate resolution of environmental issues and related issues for any filings that may be submitted to the Commission for the Leaburg Walterville Project.

Office of General Council

Ellen Korthaus-Vos (202) 501-6794

Merrill Hathaway (202) 208-0825

Office of Energy Projects

Jim Hastreiter (503) 944-6760

The staff listed above are separated from the advisory staff in these proceedings and will not participate as advisory staff in these proceedings.

David P. Boergers,
Secretary.

[FR Doc. 00-16695 Filed 6-30-00; 8:45 am]

BILLING CODE 6717-01-M